INTERNATIONAL TRADE COMMISSION

[Investigation Nos. 701-TA-737 and 731-TA-1712 (Final)]

Hexamine (Hexamethylenetetramine) From China

Determinations

On the basis of the record ¹ developed in the subject investigations, the United States International Trade Commission (“Commission”) determines, pursuant to the Tariff Act of 1930 (“the Act”), that an industry in the United States is materially injured by reason of imports of hexamine from China, provided for in subheading 2933.69.50 of the Harmonized Tariff Schedule of the United States, that have been found by the U.S. Department of Commerce (“Commerce”) to be sold in the United States at less than fair value (“LTFV”) and subsidized by the government of China.² ³

¹ The record is defined in § 207.2(f) of the Commission's Rules of Practice and Procedure (19 CFR 207.2(f)).

² 90 FR 33922 and 33923 (July 18, 2025).

³ Commissioner David S. Johanson determines that that an industry in the United States is threatened with material injury by reason of imports of hexamine from China that have been found by Commerce to be sold in the United States at LTFV and subsidized by the government of China.

Background

The Commission instituted these investigations effective September 30, 2024, following receipt of petitions filed with the Commission and Commerce by Bakelite Synthetics (Atlanta, Georgia). The Commission scheduled the final phase of the investigations following notification of preliminary determinations by Commerce that imports of hexamine from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 22, 2025 (90 FR 21948 and as revised in 90 FR 31241, July 14, 2025). The Commission conducted its hearing on July 18, 2025. All persons who requested the opportunity were permitted to participate.

The Commission made these determinations pursuant to §§ 705(b) and 735(b) of the Act (19 U.S.C. 1671d(b) and 19 U.S.C. 1673d(b)). It completed and filed its determinations in these investigations on September 3, 2025. The views of the Commission are contained in USITC Publication 5660 (September 2025), entitled Hexamine (Hexamethylenetetramine) from China: Investigation Nos. 701-TA-737 and 731-TA-1712 (Final).

By order of the Commission.
Issued: September 3, 2025.
Lisa Barton,
Secretary to the Commission.

[FR Doc. 2025-17114 Filed 9-5-25; 8:45 am]

BILLING CODE 7020-02-P